NATIONAL TRANSPORTATION SAFETY BOARD

Sunshine Act Meeting

TIME AND DATE: 9:30 a.m., Tuesday, May 22, 2018.

PLACE: NTSB Conference Center, 429 L'Enfant Plaza SW, Washington, DC 20594.

STATUS: The one item is open to the public.

MATTERS TO BE CONSIDERED:

57905 Highway Special Investigation Report—Selective Issues in School Bus Transportation Safety: Crashes in Baltimore, Maryland, and Chattanooga, Tennessee.

News Media Contact: Telephone: (202) 314-6100

The press and public may enter the NTSB Conference Center one hour prior to the meeting for set up and seating.

Individuals requesting specific accommodations should contact Rochelle McCallister at (202) 314-6305 or by email at Rochelle.McCallister@ntsb.gov by Wednesday, May 16, 2018.

The public may view the meeting via a live or archived webcast by accessing a link under “News & Events” on the NTSB home page at www.ntsb.gov.

Schedule updates, including weather-related cancellations, are also available at www.ntsb.gov.

CONTACT PERSON FOR MORE INFORMATION: Candi Bing at (202) 314-6403 or by email at bingc@ntsb.gov.

For Media Information Contact: Keith Holloway at (202) 314-6100 or by email at keith.holloway@ntsb.gov.

Monday, May 14, 2018.
LaSean McCray,
Assistant Federal Register Liaison Officer.

[FR Doc. 2018-10537 Filed 5-14-18; 11:15 am]

BILLING CODE 7533-01-P